DEPARTMENT OF INTERIOR

Geological Survey

Civil Implementation Working Group—U.S. Commercial Remote Sensing Space Policy (CRSSP)

AGENCY: U.S. Geological Survey.

ACTION: Notice of open meeting.

SUMMARY: Open meeting of the CRSSP Implementation Working Group (IWG) to present and discuss progress and plans for assessing near-term civil requirements for remote sensing data.

DATE/TIME OF MEETING: December 14, 2004, 9-12 a.m.

PLACE: Visitors Center, USGS Headquarters, 12201 Sunrise Valley Drive, Reston, VA 20192.

FOR FURTHER INFORMATION CONTACT: Inquiries and notice of intent to attend the meeting may be addressed to: Greg Snyder, CRSSP IWG Chair, USGS National Center Center MS 517, Reston VA 22091, gsnyder@usgs.gov or 703-648-5169.

SUPPLEMENTARY INFORMATION:

Purpose of Public Meeting

This public meeting provides a forum for the remote sensing industry and other interested participants to be briefed on the progress and plans of the CRSSP near-term requirements collection and evaluation process and to discuss ways to improve its effectiveness.

Background

On April 25, 2003, the president signed the U.S. Commercial Remote Sensing Space Policy. The fundamental goal of this policy is to advance and protect U.S. national security and foreign policy interests by maintaining the nation's leadership in remote sensing space activities, and by sustaining and enhancing the U.S. remote sensing industry. Doing so will also foster economic growth, contribute to environmental stewardship, and enable scientific and technological excellence. In support of this goal, the United States Government is directed to:

• Rely to the maximum practical extent on U.S. commercial remote sensing space capabilities for filling imagery and geospatial needs for military, intelligence, foreign policy, and homeland security, and civil users;

• Focus United States Government remote sensing space systems on meeting needs that can not be effectively, affordably, and reliably satisfied by commercial providers because of economic factors, civil mission needs, national security concerns, or foreign policy concerns;

• Develop a long-term, sustainable relationship between the United States Government and the U.S. commercial remote sensing space industry;

• Provide a timely and responsive regulatory environment for licensing the operations and exports of commercial remote sensing space systems; and

• Enable U.S. industry to compete successfully as a provider of remote sensing space capabilities for foreign governments and foreign commercial users, while ensuring appropriate measures are implemented to protect national security and foreign policy.

The specific directives to civil agencies included:

• Determine which needs for imagery and geospatial products and services can be reliably met by commercial remote sensing space capabilities;

• Communicate current and projected needs to the commercial remote sensing space industry.

The policy also directs civil agencies to craft a plan for policy implementation. The plan, agreed to in December 2003, calls for shared responsibilities among civil agencies, close coordination with the National Geospatial-Intelligence Agency, and the formation of two groups; a senior steering committee (SSC) for policy guidance and an interagency policy implementation working group (IWG) for operational support. The USGS administers these two groups and serves as the lead civil agency. The policy also identifies goals beyond the scope of the implementation plan that are being addressed by other interagency groups.

Proposed Agenda

The meeting will begin with presentations to provide an update on the CRSSP civil near-term requirements-collection process and planned reporting capabilities, followed by discussions of how to provide meaningful requirements information for industry planning and business decisions. Representatives from the CRSSP IWG will present the goals, accomplishments, plans and potential enhancements to the process.

Meeting Access

Directions to the USGS National Center can be accessed at http://www.usgs.gov/major_sites.html. After arriving at USGS follow signs to Visitors Parking and proceed to the Visitors Entrance. You will be required to show valid picture identification as you enter. A guard will point you to the Visitors Center.

Robert A. Lidwin,
Chief of Staff, USGS Geography Discipline.

[FR Doc. 04-25745 Filed 11-19-04; 8:45 am]

BILLING CODE 4310-Y7-M